DEPARTMENT OF STATE

[Public Notice: 12567]

Exchange Visitor Program

ACTION: Notice of an agreement between the Government of the United States and the Swiss Federal Council and modification of certain regulatory requirements.

SUMMARY: In accordance with the requirements of the Exchange Visitor Program (EVP) regulations, the Principal Deputy Assistant Secretary for Educational and Cultural Affairs (ECA), U.S. Department of State, has modified certain regulatory provisions to permit Swiss citizens aged 18 to 35 who are enrolled in or have graduated from a technical, vocational (apprenticeship), or professional training program or post-secondary institution to participate in the EVP's Intern and Trainee categories. The Swiss Federal Council has established a reciprocal program for U.S. citizens aged 18 to 35 who wish to obtain further training in their field.

DATES: This action is effective November 30, 2024.

FOR FURTHER INFORMATION CONTACT: Rebecca Pasini, Deputy Assistant Secretary for Private Sector Exchange at 2200 C Street NW, SA-5, 5th Floor, Washington, DC 20522 via telephone: (202) 826-4364, or via email at jexchanges@state.gov.

SUPPLEMENTARY INFORMATION: The Bureau of Educational and Cultural Affairs has concluded an agreement between the United States and the Swiss Federal Council in accordance with existing EVP regulations (22 CFR part 62), including regulations applying to the Intern and Trainee categories (22 CFR 62.22). The program supports the purposes of the Fulbright-Hays Act by increasing Swiss J-visa participants' understanding of U.S. culture and society and enhancing U.S citizens' knowledge of Swiss culture and society through an open interchange of ideas. A key goal of the Fulbright-Hays Act, which authorizes the Intern and Trainee categories, is that exchange visitors will return to their home countries and share their experiences in the United States.

The goals of the agreement, signed on October 11, 2024, are to give eligible Swiss and U.S. citizens the opportunity to acquire hands-on professional experience in their field of study; improve their knowledge of U.S and Swiss languages, cultures, and skills; and encourage participant mobility at the start of their careers in order to foster mutual understanding between the two countries. Permitting Swiss citizens enrolled in or graduated from technical, vocational (apprenticeship), or professional training programs to participate in a J-visa intern/trainee program provides an opportunity to expand the diversity of exchange visitors and is representative of efforts to ensure J-visa programs are more inclusive. The agreement intends to open the EVP Intern and Trainee categories to a new demographic of exchange visitors and educational institutions.

The Exchange Visitor Program (EVP) currently offers hundreds of Swiss exchange visitors the opportunity to teach, study, train, and conduct research in the United States. However, some Swiss graduates of technical, vocational (apprenticeships), or professional training programs are currently ineligible to participate in the Intern and Trainee categories of the EVP. Under current EVP regulations (22 CFR 62.22(d)(2)), trainees must be foreign nationals who have either a degree or professional certificate from a foreign post-secondary academic institution and at least one year of prior related work experience in their occupational field acquired outside the United States, or five years of work experience in their occupational field acquired outside the United States. Under current regulations (22 CFR 62.22(d)(3)), intern exchange visitors must be enrolled in an accredited foreign degree- or certificate-granting post-secondary academic institution or have recently graduated (within 12 months of program start date) from such an institution.

Switzerland offers vocational education and training programs for approximately 250 different professions. Swiss vocational education and training are predominantly based on a dual education system: practical training (apprenticeships) on three to four days per week at a training institution supplemented by theoretical classes on one to two days per week. In addition, such students attend inter-company courses. These programs would not meet existing education and training regulatory requirements for the Intern and Trainee categories of the EVP.

Under the agreement between the United States and Switzerland, Swiss participants who have a technical, vocational, or professional training (apprenticeship) or a post-secondary background may conduct a four to 18 month-long internship or training program in the United States under the EVP. Under the reciprocal agreement, U.S. participants may train under a work contract in Switzerland for four and 18 months.

Under the agreement, exchange visitors in the U.S. program must be citizens of Switzerland between the ages of 18 and 35. They must wish to obtain training in their field in order to support their career development through a pre-arranged placement at a U.S. private sector or non-profit organization. Under the agreement, participants in the Swiss program must be U.S. citizens aged 18 to 35 and wish to obtain further training in their field through a contract of employment in Switzerland.

Interns from Switzerland on the U.S. program must be enrolled in or have graduated within 12 months of their program start date from a technical, vocational, or professional training (apprenticeship) program or post-secondary institution located outside the United States. Trainees from Switzerland must have graduated from a technical, vocational, or professional training (apprenticeship) program located outside the United States and have at least one year of prior related work experience in their occupational field acquired outside the United States or have five years of work experience in their occupational field acquired outside the United States. U.S. participants on the Swiss program must be enrolled for at least two years in or graduated from a technical, vocational, or professional training (apprenticeship) program or post-secondary institution in the United States or have graduated from a technical, vocational, or professional training (apprenticeship) program or post-secondary institution in the United States.

Scott D. Weinhold,
Principal Deputy Assistant Secretary, Bureau of Educational and Cultural Affairs, Department of State.

[FR Doc. 2024-25658 Filed 11-4-24; 8:45 am]

BILLING CODE 4710-05-P